ENVIRONMENTAL PROTECTION AGENCY

40 CFR Part 30

[EPA-HQ-OA-2018-0259; FRL-9978-31-ORD]

RIN 2080-AA14

Strengthening Transparency in Regulatory Science; Extension of Comment Period and Notice of Public Hearing

AGENCY: Environmental Protection Agency (EPA).

ACTION: Proposed rule; extension of comment period; notice of public hearing.

SUMMARY: On April 30, 2018, the Environmental Protection Agency (EPA) proposed a rule titled, “Strengthening Transparency in Regulatory Science.” The EPA is extending the comment period on the proposed rule, which was scheduled to close on May 30, 2018, until August 16, 2018. The EPA is also announcing a public hearing to be held for the proposed rule. The hearing will be held on July 17, 2018 in Washington, DC. The EPA is making these changes in response to public requests for an extension of the comment period and for a public hearing.

DATES: The public comment period for the proposed rule published in the Federal Register on April 30, 2018 (83 FR 18768), is being extended. Written comments must be received on or before August 16, 2018. The public hearing will be held on July 17, 2018.

ADDRESSES: The EPA has established a docket for the proposed rulemaking (available at http://www.regulations.gov). The Docket ID No. is EPA-HQ-OA-2018-0259. Submit your comments, identified by the appropriate Docket ID, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make.

For additional submission methods, the full EPA public comment policy, and general guidance on making effective comments, please visit http://www.epa.gov/dockets/comments.html.

Public hearing: The public hearing will be held at the Environmental Protection Agency, William Jefferson Clinton East Building, Main Floor Room 1153, 1201 Constitution Avenue NW, in Washington, DC 20460. The public hearing will convene at 8:00 a.m. EST and continue until 8:00 p.m. EST or one hour after the last registered speaker has spoken, whichever is earlier. The EPA will make every effort to accommodate all speakers that arrive and register. Because this hearing is being held at a U.S. government facility, individuals planning to attend the hearing should be prepared to show valid picture identification to the security staff to gain access to the meeting room. No large signs will be allowed in the building, cameras may only be used outside of the building, and demonstrations will not be allowed on federal property for security reasons.

If you would like to present oral testimony at the public hearing, please register online at https://www.epa.gov/osa/strengthening-transparency-regulatory-science or contact Tom Sinks, Environmental Protection Agency, Office of the Science Advisor, (MC 8105R), 1200 Pennsylvania Avenue NW, Washington, DC 20460, telephone (202) 564-0221, staff_osa@epa.gov, no later than 2 business days prior to the public hearing. The last day to register will be July 15, 2018. If using email, please provide the following information: Time of day you wish to speak (8:00 a.m.-12:00 p.m., 12:00 p.m.-4:00 p.m., 4:00 p.m.-8:00 p.m.), name, affiliation, address, email address, and telephone and fax numbers.

FOR FURTHER INFORMATION CONTACT: Questions concerning the proposed rule, “Strengthening Transparency in Regulatory Science” should be addressed to Tom Sinks, Office of the Science Advisor, Environmental Protection Agency, 1200 Pennsylvania Avenue NW, Washington, DC 20460; (202) 564-0221; email address: staff_osa@epa.gov.

SUPPLEMENTARY INFORMATION: This document extends the public comment period for the proposed rule to ensure that the public has sufficient time to review and comment on the proposal. EPA is proposing this rule under authority of 5 U.S.C. 301, in addition to the authorities listed in the April 30th document.

The public hearing provides the public with an opportunity to present oral comments regarding EPA's proposed regulation entitled “Strengthening Transparency in Regulatory Science.” This proposed regulation is intended to strengthen the transparency of EPA regulatory science. The proposed regulation provides that, for the science pivotal to its significant regulatory actions, EPA will ensure that the data and models underlying the science is publicly available in a manner sufficient for validation and analysis. EPA is proposing this rule under authority of 5 U.S.C. 301, in addition to the authorities listed in the April 30th document.

The public hearing will provide interested parties the opportunity to present data, views, or arguments concerning the proposal. EPA solicits comments on all aspects of the proposal and specifically on the issues identified in Section III of the April 30th document. The EPA may ask clarifying questions during the oral presentations, but will not respond to the presentations at that time. Written statements and supporting information submitted during the comment period will be considered with the same weight as any oral comments and supporting information presented at the public hearing.

Oral testimony will be limited to 5 minutes for each commenter. The EPA encourages commenters to provide EPA with a copy of their oral testimony electronically via email or in hard copy form.

The hearing schedules, including lists of speakers, will be posted on EPA's website https://www.epa.gov/osa/strengthening-transparency-regulatory-science. Verbatim transcripts of the hearings and written statements will be included in the docket for the rulemaking. EPA will make every effort to follow the schedule as closely as possible on the day of the hearing; however, please plan for the hearing to run either ahead of schedule or behind schedule.

Dated: May 21, 2018.
Tom Sinks,
Director, Office of the Science Advisor.

[FR Doc. 2018-11316 Filed 5-24-18; 8:45 am]

BILLING CODE 6560-50-P